DEPARTMENT OF ENERGY

Federal Energy Regulatory Commission

Combined Notice of Filings # 1

May 1, 2007.

Take notice that the Commission received the following electric rate filings:

Docket Numbers: ER01-537-002; ER01-538-001.

Applicants: Westmoreland Partners (ROVA I); Westmoreland Partners (ROVA II).

Description: Triennial Updated Market Power Analysis of Westmoreland Partners et al.

Filed Date: 4/30/2007.

Accession Number: 20070430-5204.

Comment Date: 5 p.m. Eastern Time on Monday, May 21, 2007.

Docket Numbers: ER04-374-006; ER05-717-006; ER05-721-006; ER99-2341-008; ER06-230-003; ER06-1334-003; ER07-277-001.

Applicants: Judith Gap Energy LLC; Spring Canyon Energy LLC; Invenergy TN LLC; Hardee Power Partners Limited; Wolverine Creek Energy LLC; Spindle Hill Energy LLC; Invenergy Cannon Falls LLC.

Description: Spring Canyon Energy LLC, Judith Gap Energy LLC, and Invenergy TN LLC submit a notice of change in status under its market-based rate authority.

Filed Date: 4/27/2007.

Accession Number: 20070501-0288.

Comment Date: 5 p.m. Eastern Time on Friday, May 18, 2007.

Docket Numbers: ER06-1355-002.

Applicants: Evergreen Wind Power, LLC.

Description: Evergreen Wind Power LLC submit a change in status with respect to the characteristics upon which the Commission previously relied when granting its market-based rate authority and submit an errata on 4/27/07.

Filed Date: 04/25/2007; 04/27/2007.

Accession Number: 20070427-0037; 20070427-5017.

Comment Date: 5 p.m. Eastern Time on Wednesday, May 16, 2007.

Docket Numbers: ER07-485-001.

Applicants: Southern Company Services, Inc.

Description: Southern Company Services, Inc agent for Alabama Power Company et al submits materials in response to Commission's 3/28/07 letter order.

Filed Date: 4/27/2007.

Accession Number: 20070430-0182.

Comment Date: 5 p.m. Eastern Time on Friday, May 18, 2007.

Docket Numbers: ER07-579-002.

Applicants: Midwest Independent Transmission System Operator, Inc.

Description: Midwest Independent Transmission System Operator Inc submits executed amended and restated generator interconnection agreement with Michigan Electric Transmission Company, LLC et al.

Filed Date: 4/26/2007.

Accession Number: 20070427-0044.

Comment Date: 5 p.m. Eastern Time on Thursday, May 17, 2007.

Docket Numbers: ER07-591-001.

Applicants: Exel Power Sources, LLC.

Description: Exel Power Sources, LLC submits its Petition for acceptance of Initial Tariff, Waivers and Blanket Authority and request for acceptance of FERC Electric Tariff, Original Volume 1 etc.

Filed Date: 4/10/2007.

Accession Number: 20070412-0087.

Comment Date: 5 p.m. Eastern Time on Thursday, May 10, 2007.

Docket Numbers: ER07-705-001.

Applicants: GSG, LLC.

Description: GSG, LLC submits an amendment to its application for Order Accepting Market-Based Rate Tariff, Granting Authorizations and Blanket Authority, and Waiving Certain Requirements.

Filed Date: 4/27/2007.

Accession Number: 20070427-5021.

Comment Date: 5 p.m. Eastern Time on Friday, May 18, 2007.

Docket Numbers: ER07-785-000.

Applicants: American Electric Power Service Corporation.

Description: American Electric Power Service Corporation agent for AEP Operating Companies submits a first revision to the Interconnection and Local Delivery Service agreement 1425 with Village of Plymouth.

Filed Date: 4/25/2007.

Accession Number: 20070426-0170.

Comment Date: 5 p.m. Eastern Time on Wednesday, May 16, 2007.

Docket Numbers: ER07-792-000.

Applicants: New York Independent System Operator, Inc.

Description: New York Independent System Operator Inc submits proposed amendments to its Market Administration and Control Area Services Tariff and its Open Access Transmission Tariff etc.

Filed Date: 4/25/2007.

Accession Number: 20070427-0034.

Comment Date: 5 p.m. Eastern Time on Wednesday, May 16, 2007.

Docket Numbers: ER07-793-000.

Applicants: Perryville Energy Partners, L.L.C.

Description: Perryville Energy Partners, LLC informs FERC that it will not file revisions to the Pro Form Open Access Transmission Tariff addressed in the Commission's Order 890 etc.

Filed Date: 4/25/2007.

Accession Number: 20070427-0038.

Comment Date: 5 p.m. Eastern Time on Wednesday, May 16, 2007.

Docket Numbers: ER07-794-000.

Applicants: Attala Transmission, LLC.

Description: Attala Transmission LLC informs FERC they will not file the revisions to the pro forma Open Access Transmission Tariff addressed in FERC's Order 890 etc.

Filed Date: 4/25/2007.

Accession Number: 20070427-0035.

Comment Date: 5 p.m. Eastern Time on Wednesday, May 16, 2007.

Docket Numbers: ER07-795-000.

Applicants: California Independent System Operator Corporation.

Description: California Independent System Operator Corporation submits informational filing intended to provide notice re the revised transmission Access Changes effective 1/1/07.

Filed Date: 4/26/2007.

Accession Number: 20070427-0033.

Comment Date: 5 p.m. Eastern Time on Thursday, May 17, 2007.

Docket Numbers: ER07-796-000.

Applicants: New England Participating Transmission Owners.

Description: New England Participating Transmission Owners submits proposed revisions to the revenue requirement formulas for transmission services set forth in the Attachment F, Annual Transmission Revenue Requirements etc.

Filed Date: 4/26/2007.

Accession Number: 20070427-0036.

Comment Date: 5 p.m. Eastern Time on Thursday, May 17, 2007.

Docket Numbers: ER07-797-000.

Applicants: American Electric Power Service Corporation.

Description: American Electric Power Service Corp on behalf of AEP Operating Companies submits the first revision to the Interconnection and Local Delivery Service Agreement with the Village of Wharton.

Filed Date: 4/26/2007.

Accession Number: 20070430-0157.

Comment Date: 5 p.m. Eastern Time on Thursday, May 17, 2007.

Docket Numbers: ER07-798-000.

Applicants: American Electric Power Service Corporation.

Description: American Electric Power Service Corp on behalf of AEP Operating Companies submits the first revision to the Interconnection and Local Delivery Service Agreement with the City of Clyde.

Filed Date: 4/26/2007.

Accession Number: 20070430-0158.

Comment Date: 5 p.m. Eastern Time on Thursday, May 17, 2007.

Docket Numbers: ER07-799-000.

Applicants: Norwalk Power LLC.

Description: Norwalk Power LLC submits unexecuted cost-of-service agreement with NRG Power Marketing Inc and ISO New England Inc.

Filed Date: 4/26/2007.

Accession Number: 20070430-0188.

Comment Date: 5 p.m. Eastern Time on Thursday, May 17, 2007.

Docket Numbers: ER07-800-000.

Applicants: American Electric Power Service Corp.

Description: American Electric Power Service Corporation, as designated agent for AEP Operating Companies submits a first revision to the Interconnection & Local Delivery Service Agreement 1419 with Village of Cary.

Filed Date: 4/26/2007.

Accession Number: 20070430-0160.

Comment Date: 5 p.m. Eastern Time on Thursday, May 17, 2007.

Docket Numbers: ER07-801-000.

Applicants: Wisconsin Electric Power Company.

Description: Letter to Remove Umbrella Agreements by Wisconsin Electric Power Company under ER07-801.

Filed Date: 4/18/2007.

Accession Number: 20070418-5020.

Comment Date: 5 p.m. Eastern Time on Wednesday, May 9, 2007.

Docket Numbers: ER07-802-000.

Applicants: MEP Clarksdale Power, LLC.

Description: MEP Clarksdale Power, LLC submits a notice of cancellation of its FERC Electric Tariffs.

Filed Date: 4/27/2007.

Accession Number: 20070430-0159.

Comment Date: 5 p.m. Eastern Time on Friday, May 18, 2007.

Docket Numbers: ER07-803-000.

Applicants: Consolidated Edison Co. of New York, Inc.

Description: Consolidated Edison Company of New York, Inc submits the Revised and Restated Interconnection Agreement with the Power Authority of the State of New York, dated 5/1/07.

Filed Date: 4/27/2007.

Accession Number: 20070430-0196.

Comment Date: 5 p.m. Eastern Time on Tuesday, May 8, 2007.

Docket Numbers: ER07-804-000.

Applicants: Xcel Energy Operating Companies.

Description: Xcel Energy Services, Inc submits the Master Transmission to Load Interconnection Agreement between Northern States Power Co and Great River.

Filed Date: 4/27/2007.

Accession Number: 20070430-0185.

Comment Date: 5 p.m. Eastern Time on Friday, May 18, 2007.

Docket Numbers: ER07-813-000.

Applicants: Midwest Independent Transmission System Operator, Inc.

Description: Midwest Independent Transmission System Operator Inc submits its proposed revisions to Sheet 207 of the Midwest ISO's Open Access Transmission and Energy Markets Tariff.

Filed Date: 4/23/2007.

Accession Number: 20070425-0161.

Comment Date: 5 p.m. Eastern Time on Monday, May 14, 2007.

Take notice that the Commission received the following electric securities filings:

Docket Numbers: ES07-33-000.

Applicants: Entergy Mississippi, Inc.

Description: Form 523—Application of Entergy Mississippi, Inc. for Authorization to issue and sell preferred stock and long-term debt securities during the two-year period ending 6/30/99.

Filed Date: 04/30/2007.

Accession Number: 20070430-5037.

Comment Date: 5 p.m. Eastern Time on Monday, May 21, 2007.

Docket Numbers: ES07-34-000.

Applicants: System Energy Resources, Inc.

Description: Form 523—Application of System Energy Resources, Inc. for authorization to issue and sell long-term securities during two-year period ending June 30, 2009.

Filed Date: 4/30/2007.

Accession Number: 20070430-5039.

Comment Date: 5 p.m. Eastern Time on Monday, May 21, 2007.

Docket Numbers: ES07-35-000.

Applicants: Entergy Gulf States Louisiana, L.L.C.

Description: Application by Entergy Gulf States Louisiana, L.L.C. for Authorization to Issue Securities in ES07-35.

Filed Date: 4/30/2007.

Accession Number: 20070430-5116.

Comment Date: 5 p.m. Eastern Time on Monday, May 21, 2007.

Docket Numbers: ES07-36-000.

Applicants: Entergy Texas, Inc.

Description: Application by Entergy Texas, Inc. for Authorization to Issue Securities in ES07-36.

Filed Date: 4/30/2007.

Accession Number: 20070430-5120.

Comment Date: 5 p.m. Eastern Time on Monday, May 21, 2007.

Take notice that the Commission received the following public utility holding company filings:

Docket Numbers: PH0711-000.

Applicants: General Electric Company; General Electric Capital Services, Inc.; General Electric Capital Corporation; General Electric Credit Corporation of Tennessee; EFS Cogen Holdings I LLC; East Coast Power, LLC; East Coast Power Linden Holdings, LLC; East Coast Power Linden, Inc.; East Coast Power Linden GP, LLC; Linden VFT Holding, LLC; GE Structured Finance Inc.; GPSF Securities, Inc.; GESF Birchwood-GP LLC; Aircraft Services Corporation; EFS-SSCC Holdings, Inc.; Fox Energy OP, L.P.; GE Capital CALGEN; GE Energy Holdings, Inc; SFG-J Inc.; Lake Benton Power Associates LLC; Lake Benton Holdings LLC; SFG-M Inc.; Storm Lake II Power Associates LLC; Storm Lake II Holdings LLC; Source Gas Holdings LLC; Southern Star Central Corp.

Description: FERC Form 65 A Exemption Notification of General Electric Energy Financial Services.

Filed Date: 4/27/2007.

Accession Number: 20070427-5053.

Comment Date: 5 p.m. Eastern Time on Friday, May 18, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-8731 Filed 5-7-07; 8:45 am]

BILLING CODE 6717-01-P